DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Jenish Patel, Ph.D., 240-669-2894; jenish.patel@nih.gov. Licensing information and copies of the U.S. patent application listed below may be obtained by communicating with the indicated licensing contact at the Technology Transfer and Intellectual Property Office, National Institute of Allergy and Infectious Diseases, 5601 Fishers Lane, Rockville, MD, 20852; tel. 301-496-2644. A signed Confidential Disclosure Agreement will be required to receive copies of unpublished patent applications.

SUPPLEMENTARY INFORMATION: Technology description follows.

Broadly Protective Influenza Vaccine Comprising a Cocktail of Inactivated Avian Influenza Viruses

Description of Technology: There is a great need for broadly protective, “universal” influenza virus vaccines given the antigenic drift and shift of influenza viruses and the variable protective efficacy of the current influenza vaccines. This technology relates to a broadly protective, “universal” influenza vaccine candidate composed of a cocktail of different low pathogenicity avian influenza virus subtypes inactivated by betapropiolactone (BPL). Vaccinating animals with BPL-inactivated whole virus vaccine comprising influenza virus strains belonging to four or more different low pathogenicity avian influenza hemagglutinin subtypes, intranasally or intramuscularly, provided extremely broad protection and heterosubtypic protection to lethal challenge with influenza viruses in both mice and ferrets. This influenza vaccine technology has a great potential to offer broad protection against both seasonal and pandemic-potential influenza viruses.

This technology is available for licensing for commercial development in accordance with 35 U.S.C. 209 and 37 CFR part 404.

Potential Commercial Applications:

• Vaccine against viruses

• Vaccines against influenza virus

• Universal influenza virus vaccine

Competitive Advantages:

• Broad protection to both seasonal and pandemic-potential influenza viruses

• Easy and cost-effective inactivation method

• Effective immune response due to the use of authentic viral antigens

• Animal data available

Development Stage:

• In vivo (animal)

Inventors: Jeffery K. Taubenberger, M.D., Ph.D., (NIAID) and Louis Merican Schwartzman, Ph.D. (NIAID).

Publications: None.

Intellectual Property: HHS Reference No. E-033-2018/0—PCT Application filed January 18, 2019—PCT/US2019/014220.

Licensing Contact: To license this technology, please contact Jenish Patel, Ph.D., 240-669-2894; jenish.patel@nih.gov.

Collaborative Research Opportunity: The National Institute of Allergy and Infectious Diseases is also seeking statements of capability or interest from parties interested in collaborative research. NIAID would like a prospective collaborator to have the capacity to generate clinical grade materials and perform clinical studies. NIAID will consider executing a Confidentiality Agreement with a prospective collaborator to facilitate receipt of a Capability Statement if requested. For collaboration opportunities, please contact Jenish Patel, Ph.D., 240-669-2894; jenish.patel@nih.gov.

Dated: November 27, 2019.
Wade W. Green,
Acting Deputy Director, Technology Transfer and Intellectual Property Office, National Institute of Allergy and Infectious Diseases.

[FR Doc. 2019-26278 Filed 12-4-19; 8:45 am]

BILLING CODE 4140-01-P